DEPARTMENT OF JUSTICE

National Institute on Corrections

Re-Establishment of Federal Advisory Committee

AGENCY: National Institute of Corrections, Department of Justice.

SUMMARY: Under the provisions of the Federal Advisory Committee Act of 1972, the Government in the Sunshine Act of 1976, the National Institute of Corrections (NIC) gives notice that it is re-establishing the charter for the National Institute of Corrections Advisory Board (hereafter referred to as “the Board”).

FOR FURTHER INFORMATION CONTACT: Shaina Vanek, Advisory Board Designated Federal Officer for the National Institute of Corrections, 202-514-4202 or svanek@bop.gov.

SUPPLEMENTARY INFORMATION: The overall policy and operations of the NIC are under the supervision of the Board. In general, the NIC provides training, technical assistance, information services, and policy/program development assistance to Federal, state, and local corrections agencies; through cooperative agreements, awards funds to support program initiatives; and provides leadership to influence correctional policies, practices, and operations nationwide in areas of emerging interest and concern to correctional executives and practitioners as well as public policymakers. The Board will help develop long-range plans, advise on program development, and recommend guidance to assist the NIC's efforts in these areas. The Board will also advise the Attorney General about the appointment of the Director of the NIC.

The Board shall report to the Director of the NIC. The Director of NIC or his/her designated representatives may act upon the Board's advice and recommendations.

Under 18 U.S.C. 4351(b) and (c), the Board shall consist of sixteen members. The following six individuals shall serve as members of the Board ex officio: The Director of the Federal Bureau of Prisons or his designee, the Assistant Attorney General for the Office of Justice Programs or his designee, Chairman of the United States Sentencing Commission or his designee, the Director of the Federal Judicial Center or his designee, the Associate Administrator for the Office of Juvenile Justice and Delinquency Prevention or his designee, and the Assistant Secretary for Human Development of the Department of Health and Human Services or his designee. The remaining ten members of the Board shall be selected by the Attorney General of the United States, after consultation with the Federal Bureau of Prisons and the NIC. Five of these shall be qualified as a practitioner (Federal, State, or local) in the field of corrections, probation, or parole, and shall serve for staggered three-year terms. Five of these members shall be from the private sector, such as business, labor, and education, having demonstrated an active interest in corrections, probation, or parole, and shall serve for staggered three-year terms.

The NIC, when necessary, and consistent with the Board's mission and NIC policies and procedures may establish subcommittees, task groups, or working groups deemed necessary to support the Board. Establishment of subcommittees will be based upon an identified and articulated need, a verbal or written vote by the Board, and approval by the NIC Director. The Board has established no permanent subcommittees.

Any established subcommittees shall not work independently of the chartered Board, and shall report all of their recommendations and advice to the Board for full deliberation and discussion. Subcommittees have no authority to make decisions on behalf of the chartered Board; nor can any subcommittees or any of its members update or report directly to the NIC or any Federal officers or employees. All subcommittees operate under the provisions of the FACA, the Government in the Sunshine Act, governing Federal statutes and regulations, and governing NIC policies/procedures.

The Board shall meet at the call of the Board's Designated Federal Officer, in consultation with the Chairperson. The estimated number of Committee meetings is two per year.

In addition, the Designated Federal Officer is required to be in attendance at all Board and subcommittee meetings for the entire duration of each and every meeting; however, in the absence of the Designated Federal Officer, the Alternate Designated Federal Officer shall attend the entire duration of the Committee or subcommittee meeting.

Pursuant to 41 CFR 102-3.105(j) and 102-3.140, the public or interested organizations may submit written statements to NIC Advisory Board's membership about the Board's mission and functions. Written statements may be submitted at any time or in response to the stated agenda of planned meeting of NIC Advisory Board.

All written statements shall be submitted to the Designated Federal Officer for the National Institute of Corrections Advisory Board, and this individual will ensure that the written statements are provided to the membership for their consideration.

The Designated Federal Officer, pursuant to 41 CFR 102-3.150, will announce planned meetings of the Department of Defense Historical Advisory Committee. The Designated Federal Officer, at that time, may provide additional guidance on the submission of written statements that are in response to the stated agenda for the planned meeting in question.

Dated: September 28, 2021.
Shaina Vanek,
Acting Director and Advisory Board Designated Federal Officer, National Institute of Corrections.

[FR Doc. 2021-21501 Filed 10-1-21; 8:45 am]

BILLING CODE P